DEPARTMENT OF COMMERCE

Bureau of Economic Analysis

RIN 0691-XC068

Request for Comment; Notice of Development of Outdoor Recreation Satellite Account (To Define and Measure the Economic Impact of Outdoor Recreation)

AGENCY: Bureau of Economic Analysis, Department of Commerce.

ACTION: Advance notice of development of satellite account to define and measure the outdoor recreation economy; request for comments.

SUMMARY: The Bureau of Economic Analysis (BEA) and Federal Recreation Council (FRC) are soliciting comments from the public on the development of a new set of national statistics that would provide information on the economic activity generated by outdoor recreation in the United States as authorized by the Outdoor Recreation Jobs and Impact Act of 2016, Public Law 114-249.

DATES: Comments must be received no later than 30 days after publication of this notice.

ADDRESSES: You may submit comments via email to OutdoorRecreation@bea.gov. Comments sent by any other method or after the comment period may not be considered. All comments are a part of the public record.

FOR FURTHER INFORMATION CONTACT: Thomas Howells, Chief, Industry Analysis Division (BE-53), Bureau of Economic Analysis, Department of Commerce, 4600 Silver Hill Road, Washington, DC 20233; phone: (301) 278-9586 or via email at thomas.howells@bea.gov.

SUPPLEMENTARY INFORMATION: In September 2016, the Bureau of Economic Analysis (BEA) entered an interagency agreement with agencies of the Federal Recreation Council (FRC). The FRC is composed of the National Park Service, U.S. Forest Service, U.S. Fish and Wildlife Service, Bureau of Land Management, Bureau of Reclamation, National Oceanic and Atmospheric Administration, and U.S. Army Corps of Engineers. The interagency agreement seeks to develop an Outdoor Recreation Satellite Account (ORSA). The seven agencies that make up the FRC are prominent stewards of federal public lands and waters for outdoor recreation, and BEA is one of the U.S. government's premier producers of official economic statistics.

The ORSA will provide a first-of-its-kind look at the outdoor recreation economy. While BEA's current gross domestic product (GDP) statistics already embed economic activity associated with outdoor recreation, the new satellite account will allow these activities to be separately identified and highlighted in a way not possible with current statistics. Ultimately, creation of the ORSA will provide detailed data that will deepen the public's understanding of the economic impact of outdoor recreation. This will inform decision making and improve governance and long-term management of public lands and waters. The first major step in this effort is to define the range of activities encompassed by the outdoor recreation economy. In evaluating potential definitions, BEA and FRC will consider public comment as well as input from subject matter experts in the field of outdoor economics. The ORSA research team will then develop two or three potential definitions ranging in scope from narrow to broad. The range of activities in each definition will determine which industries and detailed goods and services measured by BEA will be classified as in scope, out of scope, or partially in scope for the outdoor recreation economy.

Once these initial definitions have been established, the second major step will be to review the list of partially-in-scope goods and services, and identify data sources and methodologies by which the in-scope share of these “partial” items can be estimated. Finally, using the information collected in the first two steps, prototype national-level estimates of economic activity will be developed that could include measures of output, value added, compensation of employees, and employment in the outdoor recreation economy. BEA invites email comments from the general public, private industry, state and local governments, non-profit organizations, and other interested parties. In particular, we are interested in feedback regarding the following:

1. What recreation-related activities should be considered as in scope for the ORSA;

2. What types of statistics that potential users of the ORSA would like to see presented in the account in addition to output, value added, employment, and compensation;

3. What datasets could supplement BEA's core statistics in estimating shares for partially in-scope goods and services; and,

4. What datasets could be used for possible future regionalization of the account.

Dated: June 20, 2017.
Sarahelen Thompson,
Deputy Director, Bureau of Economic Analysis.

[FR Doc. 2017-13289 Filed 6-23-17; 8:45 am]

BILLING CODE 3510-06-P